DEPARTMENT OF TRANSPORTATION

Federal Aviation Administration

14 CFR Parts 121 and 135

[Docket No. 28081]

RIN 2120-AI93 (Formerly 2120-AF63)

Flight Crewmember Duty Period Limitations, Flight Time Limitations and Rest Requirements; Withdrawal

AGENCY: Federal Aviation Administration (FAA), DOT.

ACTION: Notice of proposed rulemaking (NPRM); withdrawal.

SUMMARY: The FAA is withdrawing a previously published NPRM that proposed to establish one set of duty period limitations, flight time limitations, and rest requirements for flight crewmembers engaged in air transportation. The NPRM also proposed to establish consistent and clear duty period limitations, flight time limitations, and rest requirements for domestic, flag, supplemental, commuter and on-demand operations. We are withdrawing the NPRM because it is outdated and because of the many significant issues commenters raised. The FAA intends to issue a new NPRM to address flight, duty, and rest.

DATES: The proposed rule published on December 20, 1995 (60 FR 65951), is withdrawn as of November 23, 2009.

FOR FURTHER INFORMATION CONTACT: Dale E. Roberts, Air Transportation Division (AFS-200), Flight Standards Service, Federal Aviation Administration, 800 Independence Avenue, SW., Washington, DC 20591; telephone (202) 267-5749; e-mail: dale.e.roberts@faa.gov.

SUPPLEMENTARY INFORMATION:

Background

In June 1992 the FAA announced the tasking of the Aviation Rulemaking Advisory Committee (ARAC) Flight Crewmember Flight/Duty Rest Requirements working group.¹ The tasking followed the FAA's receipt of hundreds of letters about the interpretation of existing rest requirements and several petitions to amend existing regulations. The working group was tasked to determine if regulations on air carrier flight, duty, and rest requirements were being consistently interpreted; to evaluate industry compliance and practice on scheduling of reserve duty and rest periods; and to evaluate reports of excessive pilot fatigue related to such scheduling. While the working group could not reach consensus, they submitted a final report in June 1994 with proposals from several working group members.

¹ 57 FR 26685; June 15, 1992.

Following receipt of the ARAC's report, the FAA published the 1995 NPRM.² The proposed rule was based on proposals from the ARAC working group, the petitions for rulemaking from the industry and others, National Transportation Safety Board (NTSB) recommendations, and existing knowledge of fatigue, including research by the National Aeronautics and Space Administration (NASA). Subsequently, and in response to requests from the industry, the FAA extended the comment period closing date and answered clarifying questions to the NPRM in a 1996 notice published in the Federal Register.³

² Flight Crewmember Duty Period Limitations, Flight Time Limitations and Rest Requirements notice of proposed rulemaking (60 FR 65951; December 20, 1995).

³ 61 FR 11492; March 20, 1996.

The NPRM included proposals for a 14-hour duty day for two-pilot operations; a 10-hour flight time limit; two options for reserve and standby duty; a 32-hour in 7 days limit on flight time; and a 10-hour rest period. It also included provisions for tail end ferry flights (conducted under part 91) under the proposed duty period and flight time limits.

Discussion of Comments

The FAA received over 2,000 comments to the NPRM. Although some commenters, including the NTSB, NASA, Air Line Pilots Association, and Allied Pilots Association, said the proposal would enhance safety, the same commenters had specific objections. For example, the pilot unions objected to the proposed increase in allowed flight time. These commenters also said the proposal should have included special duty and flight time limits for disruptions in circadian rhythm and for operations with multiple takeoffs and landings.

Many industry associations opposed the NPRM, stating the FAA lacked safety data to justify the rulemaking, and industry compliance would impose significant costs. The reserve duty time provisions generated the most controversy. Overwhelmingly, air carrier associations and operators strongly criticized these provisions, asserting that they had no safety basis and were extremely costly.

Subsequent Fatigue Mitigation Efforts

Given the significant issues the NPRM raised, particularly about reserve time, the FAA tasked ⁴ ARAC in 1998 to make recommendations on reserve time for all types of air carrier operations. ARAC held a series of public meetings across the country to seek a broad cross-section of views. While the exchange helped in identifying issues that needed to be resolved before issuing a final rule, in the end, ARAC was unable to reach consensus. The FAA had stated in the NPRM that if the proposal on reserve time was not adopted, the agency would undertake rigorous enforcement of existing flight, duty, and rest rules. Consequently, in a June 1999 notice of enforcement policy,⁵ the FAA informed the industry that the agency would conduct inspections to ensure compliance with current rules. Those inspections began in December 1999. After publication of this notice, the FAA received several requests for interpretation of various provisions of the rules. We responded to these requests in a second notice of enforcement policy ⁶ published in the Federal Register in May 2001.

⁴ 63 FR 37167; July 9, 1998.

⁵ Flight Crewmember Flight Time Limitations and Rest Requirements notice of enforcement policy (64 FR 32176; June 15, 1999).

⁶ 66 FR 27548; May 17, 2001.

Since 2001, the agency has undertaken other fatigue mitigation efforts. Among these efforts was the Part 125/135 Aviation Rulemaking Committee (ARC),⁷ which we convened in February 2003, to do a comprehensive regulatory review of 14 CFR parts 125 and 135. This review included rules on flight, duty, and rest. The ARC submitted its recommendations in September 2005. Also, in June 2008, we held an Aviation Fatigue Management Symposium ⁸ that provided the industry with the latest information on fatigue science, mitigation, and management. Currently, the agency is developing an Advisory Circular on fatigue that incorporates information from the Symposium. Additionally, in June 2009, the FAA chartered the Flight and Duty Time Limitations and Rest Requirements ARC ⁹ comprised of labor, industry, and FAA representatives to develop recommendations for an FAA rule based on current fatigue science and a thorough review of international approaches to the issue.

⁷ 68 FR 5488; February 3, 2003 (See also 67 FR 42323; July 17, 2003).

⁸ See www.faa.gov/about/office%5Forg/headquarters%5Foffices/avs/offices/afs/afs200/ for the Symposium proceedings.

⁹ See http://www.faa.gov/about/office%5Forg/headquarters%5Foffices/avs/offices/afs/afs200/ for the ARC Charter.

Reason for Withdrawal

The FAA is withdrawing the 1995 Flight Crewmember Duty Period Limitations, Flight Time Limitations and Rest Requirements NPRM because it is outdated and because it raised many significant issues that the agency needed to consider before proceeding with a final rule. Instead of adopting the provisions of the 1995 NPRM, the FAA intends to develop a new NPRM later this year that considers the Flight and Duty Time Limitations and Rest Requirements ARC recommendations, scientific research, NTSB recommendations on fatigue and flight duty time, and the recommendations of the Part 125/135 ARC.

Conclusion

The FAA is withdrawing the December 1995 NPRM for the reasons stated in this notice and will issue a new proposed rule to address flight, duty, and rest. We will provide the opportunity for comment on the new rulemaking through the NPRM process.

Issued in Washington, DC, on November 17, 2009.
Chester D. Dalbey,
Deputy Director, Flight Standards Service.

[FR Doc. E9-28054 Filed 11-20-09; 8:45 am]

BILLING CODE 4910-13-P